DEPARTMENT OF AGRICULTURE

Animal and Plant Health Inspection Service

[Docket No. APHIS-2021-0063]

Notice of Request for Revision to and Extension of Approval of an Information Collection; Citrus Canker, Citrus Greening, and Asian Citrus Psyllid; Quarantine and Interstate Movement Regulations

AGENCY: Animal and Plant Health Inspection Service, Agriculture (USDA).

ACTION: Revision to and extension of approval of an information collection; comment request.

SUMMARY: In accordance with the Paperwork Reduction Act of 1995, this notice announces the Animal and Plant Health Inspection Service's intention to request a revision to and extension of approval of an information collection associated with the regulations to prevent the spread of citrus canker, citrus greening, and citrus greening's vector, the Asian citrus psyllid, to noninfested areas of United States.

DATES: We will consider all comments that we receive on or before December 6, 2021.

ADDRESSES: You may submit comments by either of the following methods:

• Federal eRulemaking Portal: Go to www.regulations.gov. Enter APHIS-2021-0063 in the Search field. Select the Documents tab, then select the Comment button in the list of documents.

• Postal Mail/Commercial Delivery: Send your comment to Docket No. APHIS-2021-0063, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the interstate movement of regulated articles to prevent the spread of citrus canker, citrus greening, and citrus greening's vector, the Asian citrus psyllid, contact Ms. Glorimar Marrero, Assistant National Policy Manager for Citrus Health Response Program, EDP, PPQ, APHIS, 4700 River Road, Unit 52, Riverdale, MD 20737; (240) 577-4633. For more information on the information collection reporting process, contact Mr. Joseph Moxey, APHIS' Paperwork Reduction Act Coordinator, at (301) 851-2483; joseph.moxey@usda.gov.

SUPPLEMENTARY INFORMATION:

Title: Citrus Canker, Citrus Greening, and Asian Citrus Psyllid; Quarantine and Interstate Movement Regulations.

OMB Control Number: 0579-0363.

Type of Request: Revision to and extension of approval of an information collection.

Abstract: The Plant Protection Act (PPA, 7 U.S.C. 7701 et seq.) authorizes the Secretary of the U.S. Department of Agriculture (USDA), either independently or in cooperation with States, to carry out operations or measures to detect, eradicate, suppress, control, prevent, or retard the spread of plant pests and diseases that are new to or not widely distributed within the United States. Under the Act, the Secretary may also issue regulations requiring plants and plant products moved in interstate commerce to be subject to remedial measures determined necessary to prevent the spread of the pest or disease, or requiring the objects to be accompanied by a permit issued by the Secretary prior to movement. The USDA's Animal and Plant Health Inspection Service (APHIS) administers the regulations to implement the PPA.

Citrus canker is a plant disease that is caused by the bacterium Xanthomonas citri subsp. citri that affects plants and plant parts of citrus and citrus relatives of the Rutaceae family. Citrus canker can cause defoliation and other serious damage to the leaves and twigs of susceptible plants. It can also cause lesions on the fruit of infected plants and cause infected fruit to drop from trees before reaching maturity. The aggressive A (Asiatic) strain of citrus canker can infect susceptible plants rapidly and lead to extensive economic losses in commercial citrus-producing areas. Citrus greening, also known as Huanglongbing, is considered to be one of the most serious citrus diseases in the world. Citrus greening is a bacterial disease that attacks the vascular system of host plants. This bacterial pathogen can be transmitted by grafting and, under laboratory conditions, by parasitic plants. The pathogen can also be transmitted by two insect vectors, one of which is Diaphorina citri Kuwayama, the Asian citrus psyllid (ACP). ACP can cause economic damage to citrus in groves and nurseries by direct feeding. Both adults and nymphs feed on young foliage, depleting the sap and causing galling or curling of leaves. High populations feeding on a citrus shoot can kill the growing tip.

Under the regulations in “Subpart M-Citrus Canker” (7 CFR 301.75-1 through 301.75-17) and “Subpart N-Citrus Greening and Asian Citrus Psyllid” (7 CFR 301.76 through 301.76-11), APHIS restricts the interstate movement of regulated articles from quarantined areas to control the artificial spread of citrus canker and citrus greening and its vector, ACP, to noninfested areas of the United States. The regulations contain requirements that involve information collection activities, including initiating or reviewing a compliance agreement; application for a limited permit or Federal certificate; labeling; recordkeeping; appealing cancellation of a certificate, permit, and compliance agreement; and responding to an emergency action notification.

The information collection requirements listed above are currently approved by the Office of Management and Budget (OMB) for the Citrus Greening and Asian Citrus Psyllid; Quarantine and Interstate Movement Regulations (OMB control number 0579-0363), and Citrus Canker; Interstate Movement of Regulated Nursery Stock and Fruit From Quarantined Areas (OMB control number 0579-0317). After OMB approves this combined information collection package (OMB control number 0579-0363), APHIS will retire OMB control number 0579-0317.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.04 hours per response.

Respondents: Commercial nurseries/operations in U.S. States or U.S. Territories quarantined for citrus canker, citrus greening, or ACP.

Estimated annual number of respondents: 1,395.

Estimated annual number of responses per respondent: 7,428.

Estimated annual number of responses: 10,361,832.

Estimated total annual burden on respondents: 366,719 hours. (Due to averaging, the total annual burden hours may not equal the product of the annual number of responses multiplied by the reporting burden per response.)

All responses to this notice will be summarized and included in the request for OMB approval. All comments will also become a matter of public record.

Done in Washington, DC, this 30th day of September 2021.
Mark Davidson,
Acting Administrator, Animal and Plant Health Inspection Service.

[FR Doc. 2021-21794 Filed 10-5-21; 8:45 am]

BILLING CODE 3410-34-P